DEPARTMENT OF COMMERCE

Patent and Trademark Office

Agency Information Collection Activities; Submission to the Office of Management and Budget (OMB) for Review and Approval; Comment Request; Patent and Trademark Resource Center Metrics

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on November 20, 2023 during a 60-day comment period (88 FR 80695). This notice allows for an additional 30 days for public comment.

Agency: United States Patent and Trademark Office, Department of Commerce.

Title: Patent and Trademark Resource Center Metrics.

OMB Control Number: 0651-0068.

Needs and Uses: The Patent and Trademark Resource Center (PTRC) is authorized under the provision of 35 U.S.C. 2(a)(2), which provides that the United States Patent and Trademark Office (USPTO) shall be responsible for disseminating information with respect to patents and trademarks to the public. The PTRC Program is made up of public, state, and academic libraries. Each participating library designated as a PTRC must fulfill the following requirements: Assist the public in the efficient use of patent and trademark resources; provide free access to patent and trademark resources provided by the USPTO; and send representatives to attend USPTO-hosted PTRC training seminars.

The USPTO seeks to collect information about the public's use of the PTRCs and training provided through the PTRC program. The PTRC Program requirements stipulate that all participating libraries must submit quarterly metrics on the public's use of PTRC services and public outreach efforts provided by the PTRCs. To facilitate that requirement, the USPTO electronically collects these metrics on a quarterly basis. This information collection enables the USPTO to see how customers are being served by the PTRCs. It also allows USPTO to determine what changes may be needed in the types of services provided and what trainings the PTRC Program Office should offer to PTRC librarians.

Forms: None.

Type of Review: Extension and revision of a currently approved information collection.

Affected Public: State, local, and Tribal governments.

Respondent's Obligation: Required to obtain or retain benefits.

Frequency: Quarterly.

Estimated Number of Annual Respondents: 100 respondents.

Estimated Number of Annual Responses: 400 responses.

Estimated Time per Response: The USPTO estimates that the responses in this information collection will take the respondents approximately 30 minutes (0.50 hours) to complete. This includes the time to gather the necessary information, prepare the worksheet, and submit it to the USPTO.

Estimated Total Annual Respondent Burden Hours: 200 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0068.

Further information can be obtained by:

• Email: InformationCollection@uspto.gov. Include “0651-0068 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-04116 Filed 2-27-24; 8:45 am]

BILLING CODE 3510-16-P